SECURITIES AND EXCHANGE COMMISSION

Submission for OMB Review; Comment Request

Upon Written Request; Copies Available From: Securities and Exchange Commission, Office of Filings and Information Services, Washington, DC 20549.

Extension: Regulation A and Forms 1-A and 2-A, OMB Control No. 3235-0286, SEC File No. 270-110.

Notice is hereby given that, pursuant to the Paperwork Reduction Act of 1995 (44 U.S.C. 3501 et seq.) the Securities and Exchange Commission (“Commission”) has submitted to the Office of Management and Budget request for extension of the previously approved collection of information discussed below.

Regulation A provides an exemption from registration under the Securities Act for certain limited securities offerings by issuers who do not otherwise file reports with the Commission. Form 1-A is an offering statement filed under Regulation A. Form 2-A is used to report sales and use of proceeds in Regulation A offerings. All information is provided to the public for review. The information is filed on occasion and is mandatory. Approximately 186 issuers annually file Forms 1-A and 2-A. It is estimated that Form 1-A takes 608 hours to prepare, Form 2-A takes 12 hours to prepare and Regulation A takes one administrative hour to review for a total of 621 hours per response. The total burden is 115,506 hours. It is estimated that 75% of the 115,506 total burden hours (86,630 burden hours) would be prepared by the company. Finally, persons who respond to the collection of information prescribe to in Regulation A and its offering statements are not required to respond unless the collection of information displays a currently valid control number.

Written comments regarding the above information should be directed to the following persons: (i) Desks Officer for the Securities and Exchange Commission, Office of Information and Regulatory Affairs, Office of Management and Budget, Room 10102, New Executive Office Building, Washington, D.C. 20503; and (ii) Michael E. Bartell, Associate Executive Director, Office of Information Technology, Securities and Exchange Commission, 450 Fifth Street, N.W., Washington, D.C. 20549. Comments must be submitted to OMB within 30 days of this notice.

Dated: September 25, 2001.
Margaret H. McFarland,
Deputy Secretary.

[FR Doc. 01-24543 Filed 10-1-01; 8:45 am]

BILLING CODE 8010-01-M